DEPARTMENT OF ENERGY

Agency Information Collection Extension

AGENCY: U.S. Department of Energy.

ACTION: Notice of request for comments.

SUMMARY: The Department of Energy (DOE) has submitted an information collection request to the OMB for extension under the provisions of the Paperwork Reduction Act of 1995. The information collection requests a three-year extension of its “Industrial Relations,” OMB Control Number 1910-0600. The proposed collection covers major Department contractor Human Resource information necessary for contract management, administration, and cost control.

DATES: Comments regarding this proposed information collection must be received on or before October 2, 2025. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Alesia Harmon, Contractor Human Resource Specialist, Office of Acquisition and Management (MA-612), U.S. Department of Energy, 1000 Independence Avenue SW, Washington, DC 20585-1615. Phone: (240) 246-4702; Email: at Alesia.Harmon@hq.doe.gov.

Reporting requirements can be found at: https://www.energy.gov/management/articles/contractor-human-resources-management.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-0600;

(2) Information Collection Request Titled: Industrial Relations;

(3) Type of Review: Extension;

(4) Purpose: This information is required for management oversight of the Department of Energy's Facilities Management Contractors and to ensure that the programmatic and administrative management requirements of the contracts are managed efficiently and effectively;

(5) Annual Estimated Number of Respondents: 243;

(6) Annual Estimated Number of Total Responses: 243;

(7) Annual Estimated Number of Burden Hours: 2,302;

(8) Annual Estimated Reporting and Recordkeeping Cost Burden: $0.

Statutory Authority: 42 U.S.C. 7256; 48 CFR 970.0370.1.

Signing Authority

This document of the Department of Energy was signed on August 27, 2025, by Janella Davis, Acting Director, Office of Acquisition and Management and Senior Procurement Executive, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 28, 2025.
Jennifer Hartzell,
Alternate Federal Register Liaison Officer, U.S. Department of Energy.

[FR Doc. 2025-16795 Filed 8-29-25; 8:45 am]

BILLING CODE 6450-01-P